DEPARTMENT OF TRANSPORTATION

Federal Aviation Administration

14 CFR Part 39

[Docket No. 2004-NM-17-AD; Amendment 39-13505; AD 2004-05-10]

RIN 2120-AA64

Airworthiness Directives; Boeing Model 767 Series Airplanes

AGENCY: Federal Aviation Administration, DOT.

ACTION: Final rule; correction.

SUMMARY: This document corrects a typographical error that appeared in airworthiness directive (AD) 2004-05-10 that was published in the Federal Register on March 5, 2004 (69 FR 10321). The typographical error resulted in an incorrect reference to a previous AD. This AD is applicable to certain Boeing Model 767 series airplanes. This AD requires repetitive detailed visual inspections of the aft pressure bulkhead for damage and cracking, and repair if necessary. This AD also requires eddy current inspections prior to the airplane accumulating 25,000 flight cycles.

DATES: Effective March 22, 2004.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: Airworthiness Directive (AD) 2004-05-10, amendment 39-13505, applicable to certain Boeing Model 767 series airplanes, was published in the Federal Register on March 5, 2004 (69 FR 10321). That AD requires repetitive detailed visual inspections of the aft pressure bulkhead for damage and cracking, and repair if necessary. That AD also requires eddy current inspections prior to the airplane accumulating 25,000 flight cycles.

As published, the restatement heading on page 10323 specified that certain paragraphs were a “restatement of AD 88-09-03 R1.” In paragraph (a) the compliance time was specified as, “Prior to the accumulation of 6,000 flight cycles or within the next 1,000 flight cycles after September 26, 1988 (effective date of AD 88-09-03 R1, amendment 39-6001). * * *” However, the preamble to that AD discusses and specifies in several places the correct referenced AD number as AD 88-19-03 R1.

Since no other part of the regulatory information has been changed, the final rule is not being republished in the Federal Register.

The effective date of this AD remains March 22, 2004.

§ 39.13 [Corrected]

On page 10323, in the first column, the restatement header and paragraph (a) of AD 2004-05-10 is corrected to read as follows:

* * * * *

Restatement of AD 88-19-03 R1

(a) Prior to the accumulation of 6,000 flight cycles or within the next 1,000 flight cycles after September 26, 1988 (effective date of AD 88-19-03 R1, amendment 39-6001), whichever occurs later, unless accomplished within the last 5,000 flight cycles, and thereafter at intervals not to exceed 6,000 flight cycles, perform a detailed inspection of the aft side of the entire body station 1582 pressure bulkhead for damage (as defined in the Structural Repair Manual) and cracking, in accordance with Boeing Service Bulletin 767-53-0026, dated November 19, 1987; or Revision 1, dated March 16, 1989.

* * * * *

Issued in Renton, Washington, on April 26, 2004.
Kevin M. Mullin,
Acting Manager, Transport Airplane Directorate, Aircraft Certification Service.

[FR Doc. 04-10139 Filed 5-4-04; 8:45 am]

BILLING CODE 4910-13-P